DEPARTMENT OF AGRICULTURE

Animal and Plant Health Inspection Service

[Docket No. APHIS-2011-0014]

Notice of Revision and Request for Extension of Approval of an Information Collection; Trichinae Certification Program

AGENCY: Animal and Plant Health Inspection Service, USDA.

ACTION: Revision and extension of approval of an information collection; comment request.

SUMMARY: In accordance with the Paperwork Reduction Act of 1995, this notice announces the Animal and Plant Health Inspection Service's intention to revise an information collection associated with the voluntary Trichinae Certification Program and to request extension of approval of the information collection to enhance the ability of U.S. pork producers to export pork and pork products to overseas markets.

DATES: We will consider all comments that we receive on or before June 27, 2011.

ADDRESSES: You may submit comments by either of the following methods:

• Federal eRulemaking Portal: Go to http://www.regulations.gov/fdmspublic/component/main?main=DocketDetail&d=APHIS-2011-0014 to submit or view comments and to view supporting and related materials available electronically.

• Postal Mail/Commercial Delivery: Please send one copy of your comment to Docket No. APHIS-2011-0014, Regulatory Analysis and Development, PPD, APHIS, Station 3A-03.8, 4700 River Road, Unit 118, Riverdale, MD 20737-1238. Please state that your comment refers to Docket No. APHIS-2011-0014.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Trichinae Certification Program, contact Dr. Dave Pyburn, Staff Veterinarian, Aquaculture, Swine, Equine, and Poultry Programs, VS, APHIS, 210 Walnut Street, Room 891, Des Moines, IA 50309; (515) 284-4122. For copies of more detailed information on the information collection, contact Mrs. Celeste Sickles, APHIS' Information Collection Coordinator, at (301) 851-2908.

SUPPLEMENTARY INFORMATION: Title: Trichinae Certification Program.

OMB Number: 0579-0323.

Type of Request: Revision and extension of approval of an information collection.

Abstract: Under the Animal Health Protection Act (7 U.S.C. 8301 et seq.), the Animal and Plant Health Inspection Service (APHIS) of the U.S. Department of Agriculture (USDA) is authorized, among other things, to prohibit or restrict the interstate movement of animals and animal products to prevent the dissemination within the United States of animal diseases and pests of livestock and to conduct programs to detect, control, and eradicate pests and diseases of livestock. In addition, under the Agricultural Marketing Act of 1946 (7 U.S.C. 1622), the APHIS Administrator has authority with respect to voluntary inspection and certification of animal products and the inspection, testing, treatment, and certification of animals.

APHIS regulations in 9 CFR part 149 contain certification requirements for the voluntary Trichinae Certification Program, a cooperative effort by APHIS and the U.S. pork industry. The program is intended to enhance the ability of swine producers, as well as slaughter facilities and other persons that handle or process swine from pork production sites that have been certified under the program, to export fresh pork and products to foreign markets.

The current collection activities for the certification program include animal disposal plans, animal movement records, feed mill quality assurance affidavits, logbooks, recordkeeping, test results, documented procedures at slaughter facilities for certified swine and edible pork products, and written procedures at approved laboratories that pertain to the performance of process-verification testing. Other activities being combined with the current collection are spot audits; notification to APHIS of program withdrawal; and requests to APHIS for temporary program withdrawal, review of audit results or other determination, and certification site audits. Although we will collect additional information, we project our burden to decrease due to the decrease in the number of annual respondents.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5280 hours per response.

Respondents: Auditors (accredited veterinarians and State animal health officials), pork producers, mill managers, slaughter facility personnel, and personnel from approved laboratories.

Estimated annual number of respondents: 1,250.

Estimated annual number of responses per respondent: 11.3512.

Estimated annual number of responses: 14,189.

Estimated total annual burden on respondents: 7,492 hours. (Due to averaging, the total annual burden hours may not equal the product of the annual number of responses multiplied by the reporting burden per response.)

All responses to this notice will be summarized and included in the request for OMB approval. All comments will also become a matter of public record.

Done in Washington, DC, this 21st day of April 2011.
Kevin Shea,
Acting Administrator, Animal and Plant Health Inspection Service.

[FR Doc. 2011-10088 Filed 4-25-11; 8:45 am]

BILLING CODE 3410-34-P